OFFICE OF PERSONNEL MANAGEMENT

5 CFR Part 1001

RIN 3206 AJ69

OPM Employee Responsibilities and Conduct

AGENCY: Office of Personnel Management.

ACTION: Final rule.

SUMMARY: The Office of Personnel Management (OPM) is issuing a plain language rewrite of its regulations regarding the standards that govern OPM employee responsibilities and conduct as part of a review of certain OPM regulations. The purpose of the revisions is to make the regulations more readable.

DATES: Effective Date: August 31, 2006.

FOR FURTHER INFORMATION CONTACT: Wade Plunkett, by telephone at 202-606-1700; by FAX at 202-606-0082; or by e-mail at wmplunke@opm.gov.

SUPPLEMENTARY INFORMATION: OPM is revising part 1001, which deals with OPM employee responsibilities and conduct, as part of a review of certain OPM regulations for plain language purposes. On November 20, 2002, OPM issued a proposed rule (67 FR 70029). Since no comments were received, we are publishing the proposed rule as final with one minor clarifying modification. The purpose of this revision to part 1001 is not to make substantive changes, but rather to make part 1001 more readable, and to convert the regulation to a question-and-answer format.

Regulatory Flexibility Act

I certify that these regulations will not have a significant economic impact on a substantial number of small entities because they will affect only Federal employees.

E.O. 12866, Regulatory Review

This rule has been reviewed by the Office of Management and Budget in accordance with E.O. 12866.

List of Subjects in 5 CFR Part 1001

Conflict of interests.

Office of Personnel Management.
Linda M. Springer,
Director.

Accordingly, OPM is revising subchapter C consisting of part 1001 as follows:

Subchapter C—Regulations Governing Employees of the Office of Personnel Management

PART 1001—OPM EMPLOYEE RESPONSIBILITIES AND CONDUCT

Sec.
1001.101 In addition to this part, what other rules of conduct apply to Office of Personnel Management employees?
1001.102 What are the Privacy Act rules of conduct?

Authority: 5 U.S.C. 552a, 7301.

PART 1001—OPM EMPLOYEE RESPONSIBILITIES AND CONDUCT

§ 1001.101 In addition to this part, what other rules of conduct apply to Office of Personnel Management employees?

In addition to the regulations contained in this part, employees of the Office of Personnel Management should refer to:

(a) The Executive Branch Financial Disclosure, Qualified Trusts, and Certificates of Divestiture regulations at 5 CFR part 2634;

(b) The Standards of Ethical Conduct for Employees of the Executive Branch at 5 CFR part 2635;

(c) The Limitations on Outside Earned Income, Employment and Affiliations for Certain Noncareer Employees regulations at 5 CFR part 2636;

(d) Regulations Concerning Post Employment Conflict of Interest at 5 CFR part 2637;

(e) Post-employment Conflict of Interest Restrictions regulations at 5 CFR part 2641;

(f) The Supplemental Standards of Ethical Conduct for Employees of the Office of Personnel Management at 5 CFR part 4501;

(g) The Employee Responsibilities and Conduct regulations at 5 CFR part 735;

(h) The restrictions upon use of political referrals in employment matters at 5 U.S.C. 3303.

§ 1001.102 What are the Privacy Act rules of conduct?

(a) An employee shall avoid any action that results in the appearance of using public office to collect or gain access to personal data about individuals beyond that required by or authorized for the performance of duties.

(b) An employee shall not use any personal data about individuals for any purpose other than as is required and authorized in the performance of assigned duties. An employee shall not disclose any such information to other agencies or persons not expressly authorized to receive or have access to such information. An employee shall make any authorized disclosures in accordance with established regulations and procedures.

(c) Each employee who has access to or is engaged in any way in the handling of information subject to the Privacy Act, 5 U.S.C. 552a, shall be familiar with the regulations of this subsection as well as the pertinent provisions of the Privacy Act relating to the treatment of such information.

[FR Doc. E6-12370 Filed 7-31-06; 8:45 am]

BILLING CODE 6325-48-P